DEPARTMENT OF THE INTERIOR

Bureau of Land Management

[CACA 47658 and CACA 47658-01, LLCAD07000 L51010000 ER0000 LV.B204.00000000]

Notice of Availability of the Record of Decision for the Sunrise Powerlink Transmission Project and Associated Amendment to the Eastern San Diego County Resource Management Plan

AGENCY: Bureau of Land Management, Interior.

ACTION: Notice of Availability and initiation of appeal period.

SUMMARY: The Bureau of Land Management (BLM) announces the availability of the Record of Decision (ROD) offering two right-of-way grants to San Diego Gas & Electric (SDG&E) for the Sunrise Powerlink Transmission Project and an associated Amendment to the Eastern San Diego County Resource Management Plan (RMP). The project is located in Imperial and San Diego Counties. The California State Director, BLM, signed the ROD on January 20, 2009.

DATES: These decisions are effective immediately upon publication of this notice and publication initiates a 30-day appeal period. Information regarding the appeals process is provided below.

ADDRESSES: Copies of the ROD are available upon request from the Field Manager, El Centro Field Office, Bureau of Land Management, 1661 S. 4th Street, El Centro, CA 92243 or via the internet at BLM's El Centro Field Office Web site: http://www.blm.gov/style/medialib/blm/ca/pdf/elcentro/nepa/2007/eis.Par.9361.File.dat/ROD-SunrisePowerlinkJan2009.pdf.

FOR FURTHER INFORMATION CONTACT: Information concerning the ROD may be obtained from Thomas Zale, El Centro Associate Field Manager, at (760) 337-4400, or e-mail at Thomas_Zale@blm.gov.

SUPPLEMENTARY INFORMATION: After extensive environmental analysis, consideration of public comments, and application of pertinent Federal laws and policies, it is the decision of the BLM to offer to SDG&E two right-of-way grants for the construction, operation, maintenance, and termination of the transmission lines, ancillary facilities, and access roads of the project across public lands administered by BLM; and amend the Eastern San Diego RMP. One right-of-way grant will authorize the use of public lands for the project for a term of 50 years, which is subject to renewal, and the other will authorize the use of public lands for the construction of the project for a term of 2 years, which is also subject to renewal. The amendment of the RMP will allow for a one-time exemption for a single utility crossing outside of an established corridor on public lands. BLM's decision authorizes issuance of right-of-way grant to SDG&E for the final environmentally superior southern route alternative as analyzed in the Final Environmental Impact Statement/Environmental Impact Report (EIS/EIR), issued in October 2008. The Environmental Protection Agency published a Notice of Availability of the FEIS/EIR in the Federal Register on October 17, 2008 (73 FR 61859).

The decision by BLM to offer the two right-of-way grants to SDG&E is appealable subject to 43 CFR part 4, Subpart E—Special Rules Applicable to Public Land Hearings and Appeals, and 43 CFR 2801.10. Any party adversely affected by this decision may appeal within the timeframe as described above in the DATES section. Appeals must be filed with the Field Manager, El Centro Field Office (at the address listed below) on or before March 23, 2009. If you wish to file a petition for a stay of the effectiveness of this decision during the time that your appeal is being reviewed by the Interior Board of Land Appeals, the petition for a stay must accompany your Notice of Appeal (43 CFR 4.21 or 43 CFR 2801.10). The appeal and petition for a stay (if requested) must be filed with the El Centro Field Manager at the above listed address on or before March 23, 2009. Copies of the appeal and petition for a stay (if requested) should also be filed with Office of Hearings and Appeals, U.S. Department of the Interior, 801 North Quincy Street, Suite 300, Arlington, Virginia 22203-1710; and the Office of the Solicitor, Pacific Southwest Region, U.S. Department of the Interior, 2800 Cottage Way, Suite E-1712, Sacramento, California 95825-1890. You are encouraged to consult the cited Federal regulations for further appeal requirements.

Authority: 43 U.S.C. 1712 and 1761.

Robert M. Doyel,
Chief, Branch of Lands Management (CA-930).

[FR Doc. E9-3618 Filed 2-19-09; 8:45 am]

BILLING CODE 4310-40-P